DEPARTMENT OF THE INTERIOR

Office of Surface Mining Reclamation and Enforcement

30 CFR Parts 701, 773, 774, 778, 843 and 847

RIN 1029-AC08

Ownership and Control Settlement Rule

AGENCY: Office of Surface Mining Reclamation and Enforcement, Interior.

ACTION: Proposed rule; extension of comment period.

SUMMARY: We, the Office of Surface Mining Reclamation and Enforcement (OSM), are extending the comment period on the proposed Ownership and Control Settlement Rule published on December 29, 2003. The comment period is being extended in response to a request for an extension from members of the public.

DATES: We will accept written comments on the proposed rule until 5 p.m., Eastern Time on March 29, 2004.

ADDRESSES: You may mail or hand-deliver comments to the Office of Surface Mining Reclamation and Enforcement, Administrative Record, Room 101, 1951 Constitution Avenue, NW., Washington, DC 20240. You may also submit comments electronically to OSM at the following Internet address: osmrules@osmre.gov.

FOR FURTHER INFORMATION CONTACT: Earl D. Bandy, Jr., Office of Surface Mining Reclamation and Enforcement, Appalachian Regional Coordinating Center, Applicant/Violator System Office, 2679 Regency Road, Lexington, Kentucky 40503. Telephone: (606) 260-8424 or (800) 643-9748. E-Mail: ebandy@osmre.gov.

SUPPLEMENTARY INFORMATION: On December 29, 2003 (68 FR 75036), we published a proposed rule for public comment. The proposed rule, referred to as the Ownership and Control Settlement Rule, would revise certain provisions adopted in our December 19, 2000, Ownership and Control final rule in order to effectuate a settlement agreement we entered into with the National Mining Association. Specifically, the proposed rule would revise the provisions in the 2000 final rule pertaining to the definitions of ownership and control; permit eligibility determinations eligibility for provisionally issued permits; improvidently issued permits; challenges to ownership or control listings or findings; post-permit issuance requirements for regulatory authorities and other actions based on ownership, control, and violation information; providing applicant, operator, and ownership and control information; improvidently issued State permits; and alternative enforcement. Additional information is contained in the proposed rule published on December 29, 2003.

The comment period on the proposed rule was scheduled to close on February 27, 2004. In response to a request from members of the public, we are extending the public comment period to March 29, 2004.

Dated: February 19, 2004.
Jeffrey D. Jarrett,
Director, Office of Surface Mining Reclamation and Enforcement.

[FR Doc. 04-4300 Filed 2-25-04; 8:45 am]

BILLING CODE 4310-05-M